DEPARTMENT OF JUSTICE

Drug Enforcement Administration

21 CFR Part 1308

[Docket No. DEA-623]

Schedules of Controlled Substances: Placement of 4-hydroxy-N,N-diisopropyltryptamine (4-OH-DiPT), 5-methoxy-alpha-methyltryptamine (5-MeO-AMT), 5-methoxy-N-methyl-N-isopropyltryptamine (5-MeO-MiPT), 5-methoxy-N,N-diethyltryptamine (5-MeO-DET), and N,N-diisopropyltryptamine (DiPT) in Schedule I; Withdrawal of Proposed Rule and Notice of Hearing

AGENCY: Drug Enforcement Administration, Department of Justice.

ACTION: Withdrawal of proposed rule and withdrawal of notice of hearing.

SUMMARY: The Drug Enforcement Administration (DEA) is withdrawing a proposed rule that was published in the Federal Register on January 14, 2022, which proposed to place five tryptamine hallucinogens in schedule I of the Controlled Substances Act. Upon further consideration, DEA has determined that it is appropriate to submit a new request to the Department of Health and Human Services (HHS) for an updated scientific and medical evaluation and scheduling recommendation for these substances. Accordingly, DEA is withdrawing the proposed rule and notice of hearing that was published in the Federal Register on July 6, 2022, and is canceling the public hearing and terminating the pending hearing proceedings. DEA may issue a new proposed rule in the future regarding these substances if warranted.

DATES: The proposed rule that was published in the Federal Register on January 14, 2022 (87 FR 2376) is withdrawn as of July 27, 2022. The notice of hearing on the proposed rule that was published in the Federal Register on July 6, 2022 (87 FR 40167) is withdrawn as of July 27, 2022. The public hearing, originally scheduled to commence on August 22, 2022, is cancelled, and all proceedings related thereto are terminated.

FOR FURTHER INFORMATION CONTACT: Terrence L. Boos, Ph.D., Chief, Drug and Chemical Evaluation Section, Diversion Control Division, Drug Enforcement Administration; Mailing Address: 8701 Morrissette Drive, Springfield, Virginia 22152; Telephone: (571) 362-3249.

SUPPLEMENTARY INFORMATION: On January 14, 2022, DEA published a Notice of Proposed Rulemaking (NPRM) in the Federal Register (87 FR 2376) to place five tryptamine hallucinogens—specifically, 4-hydroxy-N,N-diisopropyltryptamine (4-OH-DiPT), 5-methoxy-alpha-methyltryptamine (5-MeO-AMT), 5-methoxy-N-methyl-N-isopropyltryptamine (5-MeO-MiPT), 5-methoxy-N,N-diethyltryptamine (5-MeO-DET), and N,N-diisopropyltryptamine (DiPT)—in schedule I of the Controlled Substances Act (CSA) (21 U.S.C. 801, et seq.). The proposed placement of these substances in schedule I was based on the scientific and medical evaluations and recommendations that the HHS provided to DEA.

In response to the NPRM, DEA received numerous comments and four requests for a hearing on the proposed rule, as provided in 21 U.S.C. 811(a). DEA scheduled a hearing on the proposed rule and published a notice to that effect in the Federal Register on July 6, 2022 (87 FR 40167). The public hearing was scheduled to commence on August 22, 2022.

Upon further consideration, DEA has determined that it is appropriate to submit a new request to HHS for an updated scientific and medical evaluation and scheduling recommendation for these substances in accordance with 21 U.S.C. 811(b) and 21 CFR 1308.43(d).

Accordingly, DEA's proposed rule published in the Federal Register on January 14, 2022 (87 FR 2376), and the notice of hearing on the proposed rule published in the Federal Register on July 6, 2022 (87 FR 40167), are withdrawn. The public hearing scheduled to commence on August 22, 2022 is canceled, and all proceedings related thereto are hereby terminated. DEA may issue a new proposed rule in the future regarding the five tryptamine hallucinogens if warranted.

Signing Authority

This document of the Drug Enforcement Administration was signed on July 22, 2022, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2022-16102 Filed 7-26-22; 8:45 am]

BILLING CODE 4410-09-P